DEPARTMENT OF AGRICULTURE

Forest Service

Sequoia National Forest, California; Tobias Forest Ecosystem Restoration Project

AGENCY: Forest Service, USDA.

ACTION: Notice of intent to prepare an environmental impact statement.

SUMMARY: The Forest Service proposes ecological restoration in the Tobias Forest Ecosystem Restoration Project (Tobias Project) by encouraging a healthy and diverse forest ecosystem that is resilient to the effects of wildfire, drought, disease, and other disturbances. The Tobias Project is located in the Greenhorn Mountains on the Western Divide Ranger District, between Alta Sierra and Johnsondale in Tulare County, California. This project would commercially thin stands of mature trees, smaller than 30 inches in diameter at breast height (dbh), to increase heterogeneity and resilience on 1,290 acres. Hand thinning or mastication of immature trees and prescribed burning are proposed on 4,130. To restore the historic species composition, areas selected for thinning would favor Jeffrey and sugar pines, oak, and other shade intolerant species.

DATES: Comments concerning the scope of the analysis must be received by March 2, 2015. The draft environmental impact statement is expected March 2015 and the final environmental impact statement is expected August 2015.

ADDRESSES: Send written comments to George Powell, Acting District Ranger, Western Divide Ranger District, 32588 Hwy. 190, Springville, CA 93265. Comments may also be sent via email to comments-pacificsouthwest-seguoia@fs.fed.us, or via facsimile to (559) 539-2067.

FOR FURTHER INFORMATION CONTACT: O'Dell Tucker, Planner, Western Divide Ranger District, 32588 Hwy. 190, Springville, CA 93265.

Individuals who use telecommunication devices for the deaf (TDD) may call the Federal Information Rely Service (FIRS) at 1-800-877-8339 between 8 a.m. and 8 p.m. Eastern Time, Monday through Friday.

SUPPLEMENTARY INFORMATION:

Background

On August 12, 2014, a Notice of Intent to prepare an environmental impact statement for the Tobias Forest Ecosystem Restoration Project was published in the Federal Register, Vol. 79, No. 133, on pages 47082 to 47083. The Forest Service after reviewing comments and initial analysis of the proposed action and additional alternatives has decided to amend the proposed action and issue a new Notice of Intent to prepare an Environmental Impact Statement (EIS), for the Tobias Forest Ecosystem Restoration Project. This Notice of Intent gives the public an opportunity to review and comment on changes made to the proposed action. The publication of this Notice of Intent begins another scoping period for the environmental impact statement for the Tobias Project.

Purpose and Need for Action

The changes to the initial proposed action would help the Tobias project better meet the purpose and need for the project. The purpose of the project is to restore and maintain the forests throughout the project area to promote a healthy, diverse forest ecosystem that is resilient to the effects of wildfire, drought, disease, and other disturbances. There is a need to increase diversity in age, density, and stand structure; modify tree species composition to favor oaks and pines (Jeffrey and sugar) over incense-cedar and white fir; modify fuel conditions to reduce the risk of uncharacteristically large, stand-replacing fires; improve wildlife habitat structure for resting, roosting, denning, and nesting purposes for forest-dependent wildlife species; support local economies with sustainable and cost-effective use of any byproducts of project implementation; improve watershed conditions by decommissioning some roads when the project concludes, in addition to routine maintenance of existing roads.

Proposed Action

The proposed action would use ground skidding and skyline yarding to commercially thin in stands of mature trees smaller than 30 inches in diameter at breast height (dbh) to increase heterogeneity and resilience on 1,290 acres. Hand thinning of immature trees less than 10 inches dbh is proposed for 1,280 acres. Mastication is proposed on 2,400 acres of small, immature trees. The proposed mastication treatments would be implemented on slopes up to 35 percent. Prescibed fire would be introduced on the landscape after thinning and mastication are completed to reduce surface fuels and promote natural regeneration of species indigenous to the project area. Underburning is proposed for 450 acres in the home range core areas (HRCA) for the California spotted owl. Large snags and large woody debris would be protected. Riparian areas and meadows would be protected and improved. Approximately eight (8) miles of road decommissioning is proposed to improve the watershed condition, stream habitat, and water quality. The proposal also includes 450 acres of fuelbreak treatment along ridgelines.

Possible Alternatives

In addition to the proposed action, the EIS will evaluate the required No Action Alternative, an alternative that uses non-commercial treatments, and an alternative that is consistent with the interim guidelines for California spotted owl (CSO) or subsequent CSO Conservation Strategy.

Responsible Official

The responsible official is Kevin B. Elliott, Forest Supervisor, Sequoia National Forest, 1839 South Newcomb Street, Porterville, CA 93257.

Nature of Decision To Be Made

The responsible official will decide whether to adopt and implement the proposed action, an alternative to the proposed action, or take no action with respect to the Tobias Forest Ecosystem Restoration project.

Scoping Process

The Forest Service has decided to analyze this project under an EIS; therefore any scoping has to be published in the Federal Register as a Notice of Intent (NOI). This NOI will initiate another 30-day scoping process, which guides the development of the EIS. It is important that reviewers provide their comments at such times and in such a manner that they are useful to the agency's preparation of the environmental impact statement. Therefore, comments should be provided prior to the close of the comment period and should clearly articulate the reviewer's concerns and contentions. If reviewers commented during one or both of the previous scoping and NOI periods, and your comments are the same, you do not need to comment again; your previous comments will be considered during the preparation of the environmental impact statement and you will be eligible to file an objection under the 36 CFR part 218 regulations.

Specific written comments are defined as comments “. . . within the scope of the proposed action, have a direct relationship to the proposed action, and must include supporting reasons for the responsible official to consider.” (36 CFR 218.2). Submission of timely, specific written comments is a prerequisite for eligibility to file an objection under the 36 CFR part 218 regulations.

Comment Requested

This project will follow the new objection procedures as directed by 36 CFR part 218. The objection process provides an opportunity for members of the public who have participated in opportunities for public participation provided throughout the planning process to have any unresolved concerns receive an independent review by the Forest Service prior to a final decision being made by the responsible official. Only those who provided specific written comments during opportunities for public comment are eligible to file an objection.

Comments received in response to this solicitation, including the names and addresses of those who comment, are part of the public record on this proposed action. Comments submitted anonymously will be accepted and considered, however anonymous comments will not provide the Agency with the ability to provide the respondent with subsequent environmental documents.

Authority: 40 CFR 1501.7 and 1508.22; Forest Service Handbook 1909.15, Section 21.

Dated: January 26, 2015.
Kevin B. Elliott,
Forest Supervisor.

[FR Doc. 2015-01775 Filed 1-29-15; 8:45 am]

BILLING CODE 3410-11-P